DEPARTMENT OF ENERGY

Federal Energy Regulatory Commission

Combined Notice of Filings #1

Take notice that the Commission received the following exempt wholesale generator filings:

Docket Numbers: EG23-76-000.

Applicants: Blackwater Solar, LLC.

Description: Blackwater Solar, LLC submits Notice of Self-Certification of Exempt Wholesale Generator Status.

Filed Date: 1/27/23.

Accession Number: 20230127-5050.

Comment Date: 5 p.m. ET 2/17/23.

Docket Numbers: EG23-77-000.

Applicants: Nevada Cogeneration Associates #1.

Description: Nevada Cogeneration Associates #1 submits Notice of Self-Certification of Exempt Wholesale Generator Status.

Filed Date: 1/30/23.

Accession Number: 20230130-5031.

Comment Date: 5 p.m. ET 2/21/23.

Take notice that the Commission received the following electric rate filings:

Docket Numbers: ER10-3115-009; ER10-3117-011; ER11-4060-011; ER11-4061-011; ER13-445-011; ER14-2823-009; ER15-1170-007; ER15-1171-007; ER15-1172-007; ER15-1173-007; ER20-2125-002.

Applicants: WGP Redwood Holdings, LLC, McKittrick Limited, Live Oak Limited, Chalk Cliff Limited, Bear Mountain Limited, Double C Generation Limited Partnership, Badger Creek Limited, Kern Front Limited, High Sierra Limited, Lea Power Partners, LLC, Waterside Power, LLC.

Description: Notice of Change in Status of Waterside Power, LLC et al.

Filed Date: 1/27/23.

Accession Number: 20230127-5296.

Comment Date: 5 p.m. ET 2/17/23.

Docket Numbers: ER15-2130-008; ER15-2131-008.

Applicants: Milo Wind Project, LLC, Roosevelt Wind Project, LLC.

Description: Notice of Non-Material Change in Status of Roosevelt Wind Project, LLC, et al.

Filed Date: 1/26/23.

Accession Number: 20230126-5184.

Comment Date: 5 p.m. ET 2/16/23.

Docket Numbers: ER17-1607-006; ER17-1608-006; ER20-27-006.

Applicants: Wright Solar Park LLC, Sunray Energy 3 LLC, Sunray Energy 2, LLC.

Description: Notice of Change in Status of Sunray Energy 2, LLC, et al.

Filed Date: 1/26/23.

Accession Number: 20230126-5189.

Comment Date: 5 p.m. ET 2/16/23.

Docket Numbers: ER21-1369-004; ER21-1371-004; ER21-1373-005; ER21-1376-005.

Applicants: ES 1A Group 2 Opco, LLC, ES 1A Group 3 Opco, LLC, Edwards Sanborn Storage II, LLC, Edwards Sanborn Storage I, LLC.

Description: Notice of Change in Status of Edwards Sanborn Storage I, LLC, et al.

Filed Date: 1/26/23.

Accession Number: 20230126-5188.

Comment Date: 5 p.m. ET 2/16/23.

Docket Numbers: ER22-1788-001.

Applicants: Deseret Generation & Transmission Co-operative, Inc.

Description: Compliance filing: Errata to 676-J First Compliance to be effective 12/31/9998.

Filed Date: 1/30/23.

Accession Number: 20230130-5006.

Comment Date: 5 p.m. ET 2/21/23.

Docket Numbers: ER22-2622-001.

Applicants: Chaparral Springs, LLC.

Description: Notice of Non-Material Change in Status of Chaparral Springs, LLC.

Filed Date: 1/27/23.

Accession Number: 20230127-5298.

Comment Date: 5 p.m. ET 2/17/23.

Docket Numbers: ER23-966-000.

Applicants: Buena Vista Energy, LLC.

Description: Compliance filing: Notice of Change in Status and Revised Market-Based Rate Tariff to be effective 1/28/2023.

Filed Date: 1/27/23.

Accession Number: 20230127-5172.

Comment Date: 5 p.m. ET 2/17/23.

Docket Numbers: ER23-967-000.

Applicants: Kumeyaay Wind LLC.

Description: Compliance filing: Notice of Change in Status and Revised Market-Based Rate Tariff to be effective 1/28/2023.

Filed Date: 1/27/23.

Accession Number: 20230127-5176.

Comment Date: 5 p.m. ET 2/17/23.

Docket Numbers: ER23-968-000.

Applicants: Rabbitbrush Solar, LLC.

Description: Compliance filing: Notice of Change in Status and Revised Market-Based Rate Tariff to be effective 1/28/2023.

Filed Date: 1/27/23.

Accession Number: 20230127-5180.

Comment Date: 5 p.m. ET 2/17/23.

Docket Numbers: ER23-969-000.

Applicants: Northern Wind Energy Redevelopment, LLC.

Description: Tariff Amendment: Cancellation of Northern Wind Energy MBR Tariff to be effective 1/30/2023.

Filed Date: 1/27/23.

Accession Number: 20230127-5203.

Comment Date: 5 p.m. ET 2/17/23.

Docket Numbers: ER23-970-000.

Applicants: Rock Aetna Power Partners, LLC.

Description: Tariff Amendment: Cancellation of Rock Aetna MBR Tariff to be effective 1/30/2023.

Filed Date: 1/27/23.

Accession Number: 20230127-5204.

Comment Date: 5 p.m. ET 2/17/23.

Docket Numbers: ER23-971-000.

Applicants: ISO New England Inc., New England Power Pool Participants Committee.

Description: § 205(d) Rate Filing: ISO New England Inc. submits tariff filing per 35.13(a)(2)(iii: ISO-NE/NEPOOL; Improvements to Economic Study Process in Attachment K to be effective 3/31/2023.

Filed Date: 1/27/23.

Accession Number: 20230127-5205.

Comment Date: 5 p.m. ET 2/17/23.

Docket Numbers: ER23-972-000.

Applicants: El Paso Electric Company.

Description: § 205(d) Rate Filing: OATT Revisions to Schedule 10 to be effective 4/1/2023.

Filed Date: 1/27/23.

Accession Number: 20230127-5231.

Comment Date: 5 p.m. ET 2/17/23.

Docket Numbers: ER23-973-000.

Applicants: New York Independent System Operator, Inc., Niagara Mohawk Power Corporation.

Description: § 205(d) Rate Filing: New York Independent System Operator, Inc. submits tariff filing per 35.13(a)(2)(iii: NMPC filing of tariff revisions re: SPC Project cost allocation and recovery to be effective 4/1/2023.

Filed Date: 1/30/23.

Accession Number: 20230130-5102.

Comment Date: 5 p.m. ET 2/21/23.

Docket Numbers: ER23-974-000.

Applicants: Niagara Mohawk Power Corporation.

Description: § 205(d) Rate Filing: 2023-01-30 Cost Allocation Agreement—Smart Path Connect to be effective 4/1/2023.

Filed Date: 1/30/23.

Accession Number: 20230130-5112.

Comment Date: 5 p.m. ET 2/21/23.

Docket Numbers: ER23-975-000.

Applicants: Pacific Gas and Electric Company.

Description: Notice of Termination of Service Agreement No. 35 with Wolfskill Energy Center, LLC of Pacific Gas and Electric Company.

Filed Date: 1/25/23.

Accession Number: 20230125-5173.

Comment Date: 5 p.m. ET 2/15/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2023.
Debbie-Anne A. Reese,
Deputy Secretary.

[FR Doc. 2023-02292 Filed 2-2-23; 8:45 am]

BILLING CODE 6717-01-P